DEPARTMENT OF HEALTH AND HUMAN SERVICES

Administration for Children and Families

[Office of Management and Budget #0970-0036]

Submission for Office of Management and Budget Review; ORR-6 Performance Report

AGENCY: Office of Refugee Resettlement, Administration for Children and Families, U.S. Department of Health and Human Services.

ACTION: Request for public comments.

SUMMARY: The Office of Refugee Resettlement (ORR), Administration for Children and Families (ACF), U.S. Department of Health and Human Services seeks Office of Management and Budget (OMB) approval for a 3-year extension to the existing data collection for the ORR-6 Performance Report forms (OMB #0970-0036, expiration December 31, 2025) with minor changes to the instructions. The minor proposed changes removed parts of the instructions that are no longer relevant due to expired program funding and clarify existing instructions. Revisions also include removal of data points from the Annual Service Plan to further reduce burden on respondents.

DATES: Comments due March 9, 2026.

ADDRESSES: The public may view and comment on this information collection request at: https://www.reginfo.gov/public/do/PRAViewICR?ref_nbr=202602-0970-001. You can also obtain copies of the proposed collection of information by emailing infocollection@acf.hhs.gov. Identify all emailed requests by the title of the information collection.

SUPPLEMENTARY INFORMATION:

Description: The ORR-6 is designed to satisfy the statutory requirements of the Immigration and Nationality Act (INA). Specifically, section 412(a)(7) of INA (8 U.S.C. 1522(a)(7)) requires that the Director monitor refugee resettlement assistance, including collecting data on the services provided and the results achieved. Data elements include output data that measures services provided by programs for school-aged youth, elderly populations, and for overall health promotion. The data collected will inform evidence-based policymaking and program design.

The ORR-6 is an OMB-approved form under the Paperwork Reduction Act (PRA). ORR proposes to extend OMB approval for the ORR-6 with minor changes to the instructions and reduction of reporting burden through removal of data points from the Annual Service Plan. ORR staff and ORR funding recipients will benefit from accurate and clear instructions that support current reporting requirements.

Respondents: States, Replacement Designees, and the District of Columbia.

Annual Burden Estimates: ACF estimates the proposed changes reduce response burden from 15 to 13 hours.

Instrument | Total number of respondents | Annual number of responses per respondent | Average burden hours per response | Annual burden hours
ORR-6 Performance Report | 70 | 2 | 13 | 1,820

Authority: 8 U.S.C. 1522(b)(7).

Mary C. Jones,
ACF/OPRE Certifying Officer.

[FR Doc. 2026-02315 Filed 2-5-26; 8:45 am]

BILLING CODE 4184-89-P